DEPARTMENT OF DEFENSE

Department of the Air Force

Intent To Grant an Exclusive Patent License

SUMMARY: Pursuant to the provisions of Part 404 of Title 37, Code of Federal Regulations, which implements Public Law 96-517, as amended, the Department of the Air Force announces its intention to grant an exclusive license in favor of NeXolve Corporation, a wholly-owned subsidiary of ManTech, having a place of business at 655 Discovery Drive, Cummings Research Park, Suite 200, Huntsville, AL 35806 in any right, title, and interest the Air Force has in the following patent and patent applications: U.S. Patent Application Serial No. 11/876081, filed on October 22, 2007, titled “Triangular Rollable and Collapsible Boom,” by Thomas W. Murphey et al.

FOR FURTHER INFORMATION CONTACT: For an objection to the prospective license to be considered, it must be submitted in writing and be received at the following address within fifteen (15) days from the date of publication of this Notice. Written objection should be sent to: James M. Skorich, Esq. 2251 Maxwell Street SE. 377th ABW/JAN, Kirtland AFB, NM 87117-5773. Telephone: (505) 846-1542.

Bao-Anh Trinh,
Air Force Federal Register Liaison Officer.

[FR Doc. E9-13688 Filed 6-10-09; 8:45 am]

BILLING CODE 5001-05-P